ENVIRONMENTAL PROTECTION AGENCY

[EPA-HQ-OPP-2009-2009-0143; FRL-8404-8]

Computer Sciences Corporation, KFORCE, and Insight Global; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Computer Sciences Corporation and its subcontractor, KFORCE and Insight Global, in accordance with 40 CFR 2.307(h)(3) and 2.308(i)(2). Computer Sciences Corporation and its subcontractor, KFORCE and Insight Global, have been awarded a contract to perform work for OPP, and access to this information will enable Computer Sciences Corporation and its subcontractor, KFORCE and Insight Global, to fulfill the obligations of the contract.

DATES: Computer Sciences Corporation and its subcontractor, KFORCE and Insight Global, will be given access to this information on or before March 16, 2009.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-2009-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under Contract No. EP-W-08-034, Computer Sciences Corporation and its subcontractor, KFORCE and Insight Global, will perform the installation and support of the Agency's Seat Management duties which consist of installation of hardware and software applications, providing help desk support, monitoring seat management assets and providing general IT support for the Office of Pesticide Programs. (OPP).

The OPP has determined that access by Computer Sciences Corporation and its subcontractor, KFORCE and Insight Global, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Computer Sciences Corporation and its subcontractor, KFORCE and Insight Global, prohibits use of the information for any purpose not specified in the contract; prohibits disclosure of the information to a third party without prior written approval from the Agency; and requires that each official and employee of the contractor sign an agreement to protect the information from unauthorized release and to handle it in accordance with the FIFRA Information Security Manual. In addition, Computer Sciences Corporation and its subcontractor, KFORCE and Insight Global, are required to submit for EPA approval a security plan under which any CBI will be secured and protected against unauthorized release or compromise. No information will be provided to Computer Sciences Corporation and its subcontractor, KFORCE and Insight Global until the requirements in this document have been fully satisfied. Records of information provided to Computer Sciences Corporation and its subcontractor, KFORCE and Insight Global, will be maintained by EPA Project Officers for this contract. All information supplied to Computer Sciences Corporation and its subcontractor, KFORCE and Insight Global, by EPA for use in connection with this contract will be returned to EPA when Computer Sciences Corporation and its subcontractor, KFORCE and Insight Global, have completed their work.

List of Subjects

Environmental protection, Business and industry, Government contracts, Government property, Security measures.

Dated: February 23, 2009.
Oscar Morales,
Director, Information Technology and Resources Management Division, Office of Pesticide Programs.

[FR Doc. E9-5222 Filed 3-10-09; 8:45 am]

BILLING CODE 6560-50-S